DEPARTMENT OF LABOR

Employment and Training Administration

[TA-W-41,288 & NAFTA-06104]

International Truck And Engine Corporation, a Subsidiary of Navistar International Corporation, Springfield, OH; Notice of Revised Determination on Remand

The United States Court of International Trade (USCIT) granted the Secretary of Labor's motion for a voluntary remand for further investigation in International Union, United Auto Workers (UAW), Region 2B v. Elaine L. Chao, U.S. Secretary of Labor (Court No. 03-00642).

The Department's denial of certification for TA-W-41,288 and NAFTA-06104 were issued on August 9, 2002, and published in the Federal Register on September 10, 2002 (67 FR 57454 and 67 FR 57455, respectively). Workers were engaged in activities related to the production of trucks and related components.

The denial of Trade Adjustment Assistance (TAA) was based on a finding that criterion (3) of the Group Eligibility Requirements of section 222 of the Trade Act of 1974, as amended, was not met. Information gathered in the investigation indicated that imports did not contribute importantly to worker separations at the subject firm. The denial of NAFTA-Transitional Adjustment Assistance (NAFTA-TAA) was based on the finding that criteria (3) and (4) were not met. Facts gathered during the investigation showed that imports from Canada or Mexico did not contribute importantly to workers separations and that there was no shift of production to Canada or Mexico.

The Department's denial of administrative reconsideration for TA-W-41,288 and NAFTA-06104 was issued on June 13, 2003, and published in the Federal Register on July 7, 2003 (68 FR 40296). The Department affirmed its conclusions that imports did not contribute importantly to worker separations at the subject firm and no production shift occurred within the relevant time period.

In the remand investigation, the Department contacted the company for additional and more comprehensive information. The company provided sales, production, import, and production shift figures which were meticulously compiled with detailed explanations of the various operations of the subject facility, the corporation, and its affiliates and also included an extensive list of its customers.

After careful review of the new and additional material provided in the expanded investigation, it has been determined that there was an ongoing shift in production to Mexico which began during the relevant period. Further, the investigation found that the ongoing shift in production resulted in increased shifts of production from the subject facility to an affiliated facility located in Mexico as well as increased company imports.

Conclusion

After careful review of the additional facts obtained on remand, I determine that a shift of production to Mexico and increases in imports (including from Canada and/or Mexico) of articles like or directly competitive with those produced by the subject firm contributed importantly to the worker separations and sales or production declines at the subject facility. In accordance with the provisions of the Trade Act, I make the following certification:

All workers of International Truck and Engine Corporation, a Subsidiary of Navistar International Corporation, Springfield, Ohio, who became totally or partially separated from employment on or after April 8, 2001, through two years from the issuance of this revised determination, are eligible to apply for worker adjustment assistance under section 223 of the Trade Act of 1974 and All workers of International Truck and Engine Corporation, a Subsidiary of Navistar International Corporation, Springfield, Ohio, who became totally or partially separated from employment on or after April 8, 2001, through two years from the issuance of this revised determination, are eligible to apply for NAFTA-TAA under section 250 of the Trade Act of 1974.

Signed in Washington, DC, this 26th day of April, 2004.
Elliott S. Kushner,
Certifying Officer, Division of Trade Adjustment Assistance.

[FR Doc. E4-967 Filed 4-29-04; 8:45 am]

BILLING CODE 4510-13-P